DEPARTMENT OF TRANSPORTATION

Coast Guard

33 CFR Part 117

[CGD08-02-021]

Drawbridge Operating Regulations; Ouachita River, LA

AGENCY: Coast Guard, DOT.

ACTION: Notice of temporary deviation from regulations.

SUMMARY: The Commander, Eighth Coast Guard District has issued a temporary deviation from the regulation governing the operation of the Union Pacific Railroad vertical lift drawbridge across the Ouachita River, mile 114.3, near Riverton, Caldwell Parish, Louisiana. This deviation allows the draw to remain closed to navigation from 8 a.m. on Monday, September 23, 2002 until 5 p.m. on Thursday, September 26, 2002. The deviation is necessary to allow for the installation of new diesel-powered generators and some modifications of the gears in the driveline.

DATES: This deviation is effective from 8 a.m. on September 23, 2002 until 5 p.m. on September 26, 2002.

ADDRESSES: Materials referred to in this deviation are available for inspection or copying at the office of the Eighth Coast Guard District, Bridge Administration Branch, Commander (obc), 501 Magazine Street, New Orleans, Louisiana, 70130-3396. Appointment hours are between 7 a.m. and 3 p.m. Monday through Friday except federal holidays. The Bridge Administration Branch maintains the public docket for this temporary deviation.

FOR FURTHER INFORMATION CONTACT: Mr. Philip Johnson, Bridge Administration Branch, at the address given above or telephone (504) 589-2965.

SUPPLEMENTARY INFORMATION: The Union Pacific Railroad vertical lift drawbridge across the Ouachita River, mile 114.3, near Riverton, Caldwell Parish, Louisiana, has a vertical clearance of 7 feet above mean high water, elevation 71.0 feet NGVD, in the closed-to-navigation position and 57 feet above mean high water in the open-to-navigation position. Navigation on the waterway consists of tugs with tows and occasional recreational craft. Presently, the draw opens on signal for the passage of vessels.

The Union Pacific Railroad requested a temporary deviation for the operation of the drawbridge to accommodate the replacement of diesel-powered generators and to modify the gears in the driveline. This work is essential for continued operation of the draw span of the bridge.

In accordance with 33 CFR 117.35(c), this work will be performed with all due speed in order to return the bridge to normal operation as soon as possible. This deviation from the operating regulations is authorized under 33 CFR 117.35.

Dated: August 29, 2002.
Roy J. Casto,
Rear Admiral, U.S. Coast Guard, Commander, Eighth Coast Guard District.

[FR Doc. 02-22828 Filed 9-6-02; 8:45 am]

BILLING CODE 4910-15-P